DEPARTMENT OF TRANSPORTATION

Federal Aviation Administration

14 CFR Part 39

[Docket No. FAA-2012-0108; Directorate Identifier 2011-NM-049-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 767 airplanes. The existing AD currently requires an inspection to detect cracks and fractures of the outboard hinge fitting assemblies on the trailing edge of the inboard main flap, and follow-on and corrective actions if necessary. For certain airplanes, the existing AD also requires a one-time inspection to determine if a tool runout option has been performed in the area. Since we issued that AD, we have received reports of hinge assembly fractures found before the currently-required inspection cycle compliance times on certain airplanes. This proposed AD reduces compliance times for Model 767-400ER series airplanes. In addition, this proposed AD would revise the applicability to include an additional airplane. We are proposing this AD to prevent the inboard aft flap from separating from the wing and potentially striking the airplane, which could result in damage to the surrounding structure and potential personal injury.

DATES: We must receive comments on this proposed AD by March 26, 2012.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office, 1601 Lind Avenue SW., Renton, Washington 98057-3356; phone: 425-917-6577; fax: 425-917-6590; email: berhane.alazar@faa.gov.

SUPPLEMENTARY INFORMATION:

Comments Invited

We invite you to send any written relevant data, views, or arguments about this proposed AD. Send your comments to an address listed under the ADDRESSES section. Include “Docket No. FAA-2012-0108; Directorate Identifier 2011-NM-049-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 16, 2003, we issued AD 2003-13-01, Amendment 39-13201 (68 FR 37402, June 24, 2003), for certain Model 767 airplanes. That AD requires an inspection to detect cracks and fractures of the outboard hinge fitting assemblies on the trailing edge of the inboard main flap, and follow-on and corrective actions if necessary. For certain airplanes, that AD also requires a one-time inspection to determine if a tool runout option has been performed in the area. That AD resulted from a report indicating that, during a routine maintenance inspection, fractured lugs were found on both hinge fittings of the outboard hinge assembly mounted to the inboard main flap on a Boeing Model 767-300 series airplane. We issued that AD to prevent the inboard aft flap from separating from the wing and potentially striking the airplane, which could result in damage to the surrounding structure and potential personal injury.

Actions Since Existing AD Was Issued

Since we issued AD 2003-13-01, Amendment 39-13201 (68 FR 37402, June 24, 2003), we have determined that, due to hinge assembly fractures found before the currently-required inspection cycle compliance times on certain airplanes affected by that AD, compliance times need to be reduced for the initial and repetitive inspections for Model 767-400ER series airplanes.

In addition, we have determined that the airplane having line number 877 was inadvertently omitted from the applicability of AD 2003-13-01, Amendment 39-13201 (68 FR 37402, June 24, 2003).

Relevant Service Information

AD 2003-13-01, Amendment 39-13201 (68 FR 37402, June 24, 2003), referred to Boeing Alert Service Bulletin 767-57A0079, dated June 20, 2002, as the appropriate source of service information for inspections and terminating actions for Model 767-400ER series airplanes. Boeing has since revised this service bulletin. We reviewed Boeing Alert Service Bulletin 767-57A0079, Revision 1, dated May 6, 2010. This service bulletin reduces the initial compliance time and repetitive intervals for inspections of the outboard hinge fitting assemblies on the trailing edge of the inboard main flap for Model 767-400ER series airplanes.

FAA's Determination

We are proposing this AD because we evaluated all the relevant information and determined the unsafe condition described previously is likely to exist or develop in other products of the same type design.

Proposed AD Requirements

This proposed AD would retain certain requirements of AD 2003-13-01, Amendment 39-13201 (68 FR 37402, June 24, 2003). This proposed AD would reduce the compliance times for Model 767-400ER series airplanes. In addition, this proposed AD would revise the applicability to include an additional airplane.

Changes to Existing AD

This proposed AD would retain certain requirements of AD 2003-13-01, Amendment 39-13201 (68 FR 37402, June 24, 2003). Since AD 2003-13-01 was issued, the AD format has been revised, and certain paragraphs have been rearranged. As a result, the corresponding paragraph identifiers have changed in this proposed AD, as listed in the following table:

Revised Paragraph Identifiers
Requirement in AD 2003-13-01 Amendment 39-13201 (68 FR 37402, June 24, 2003) | Corresponding requirement in this proposed AD
paragraph (a) | paragraph (g)
paragraph (b) | paragraph (h)
paragraph (c) | paragraph (i)(1)
paragraph (d) | paragraph (i)(2)
paragraph (f) | paragraph (j)
paragraph (g) | paragraph (l)
paragraph (h) | paragraph (k)

Because there is no longer a need for inspection results, this proposed AD would also remove the reporting requirement from AD 2003-13-01, Amendment 39-13201 (68 FR 37402, June 24, 2003).

Costs of Compliance

We estimate that this proposed AD affects 38 airplanes of U.S. registry.

We estimate the following costs to comply with this proposed AD:

Estimated Costs
Action | Labor cost | Parts cost | Cost per product | Cost on U.S. operators
Detailed inspection [retained from AD 2003-13-01, Amendment 39-13201 (68 FR 37402, June 24, 2003)] | 2 work-hours × $85 per hour = $170 per inspection cycle | $0 | $170 per inspection cycle | $6,460 per inspection cycle.
Detailed and eddy current inspections [retained from AD 2003-13-01, Amendment 39-13201 (68 FR 37402, June 24, 2003)] | 5 work hours × $85 per hour = $425 per inspection cycle | 0 | $425 per inspection cycle | $16,150 per inspection cycle.

We estimate the following costs to do any necessary replacements that would be required based on the results of the proposed inspection. We have no way of determining the number of aircraft that might need these replacements:

On-Condition Costs
Action | Labor cost | Parts cost | Cost per product
Replacement [retained from AD 2003-13-01, Amendment 39-13201 (68 FR 37402, June 24, 2003)] | 24 work hours × $85 per hour = $2,040 | $45,400 | $47,440

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2003-13-01, Amendment 39-13201 (68 FR 37402, June 24, 2003), and adding the following new AD:

The Boeing Company: Docket No. FAA-2012-0108; Directorate Identifier 2011-NM-049-AD.

(a) Comments Due Date

The FAA must receive comments on this AD action by March 26, 2012.

(b) Affected ADs

This AD supersedes AD 2003-13-01, Amendment 39-13201 (68 FR 37402, June 24, 2003).

(c) Applicability

The Boeing Company Model 767-200, -300, and -300F series airplanes, as specified in Boeing Service Bulletin 767-57A0076, Revision 1, dated March 29, 2001; and Model 767-400ER series airplanes, as specified in Boeing Alert Service Bulletin 767-57A0079, Revision 1, dated May 6, 2010; certificated in any category.

(d) Subject

Joint Aircraft System Component (JASC)/Air Transport Association (ATA) of America Code 57, Wings.

(e) Unsafe Condition

This AD was prompted by reports of hinge assembly fractures found before the currently-required inspection cycle compliance times on certain airplanes. We are issuing this AD to prevent the inboard aft flap from separating from the wing and potentially striking the airplane, which could result in damage to the surrounding structure and potential personal injury.

(f) Compliance

Comply with this AD within the compliance times specified, unless already done.

Restatement of Certain Requirements of AD 2003-13-01, Amendment 39-13201 (68 FR 37402, June 24, 2003), With Revised Service Information

(g) Inspection

Perform either a detailed inspection, or a detailed inspection plus an eddy current inspection, of the outboard hinge fitting assemblies on the trailing edge of the inboard main flap to detect cracks and fractures and evidence of a tool runout option, as applicable. For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) For Model 767-200, -300, and -300F series airplanes identified in Boeing Service Bulletin 767-57A0076, Revision 1, dated March 29, 2001: Inspect before the airplane accumulates 2,700 total flight cycles, or within 90 days after July 29, 2003 (the effective date of AD 2003-13-01, Amendment 39-13201 (68 FR 37402, June 24, 2003)), whichever occurs later, in accordance with Boeing Service Bulletin 767-57A0076, Revision 1, dated March 29, 2001.

(2) For Model 767-400ER series airplanes identified in Boeing Alert Service Bulletin 767-57A0079, dated June 20, 2002: Inspect before the airplane accumulates 12,000 total flight cycles, except as required by paragraph (m) of this AD, in accordance with Boeing Alert Service Bulletin 767-57A0079, dated June 20, 2002; or Revision 1, dated May 6, 2010. As of the effective date of this AD, only Revision 1 may be used.

(h) Follow-on/Corrective Actions

Following the initial inspections required by paragraph (g) of this AD: Perform applicable follow-on and corrective actions at the times specified in Figure 1 of Boeing Service Bulletin 767-57A0076, Revision 1, dated March 29, 2001 (for Model 767-200, -300, and -300F series airplanes); or Boeing Alert Service Bulletin 767-57A0079, dated June 20, 2002, or Boeing Alert Service Bulletin 767-57A0079, Revision 1, dated May 6, 2010 (for Model 767-400ER series airplanes); until the inspection required by paragraph (n) of this AD is accomplished. After the effective date of this AD, only Boeing Alert Service Bulletin 767-57A0079, Revision 1, dated May 6, 2010, may be used for Model 767-400ER series airplanes. Do the follow-on and corrective actions (including repetitive inspections and replacement of the fittings with new fittings), in accordance with Part 1 or Part 2 of Boeing Service Bulletin 767-57A0076, Revision 1, dated March 29, 2001 (for Model 767-200, -300, and -300F series airplanes); or Boeing Alert Service Bulletin 767-57A0079, dated June 20, 2002, or Boeing Alert Service Bulletin 767-57A0079, Revision 1, dated May 6, 2010 (for Model 767-400ER series airplanes); except as required by paragraph (i)(2) of this AD. After the effective date of this AD, only Boeing Alert Service Bulletin 767-57A0079, Revision 1, dated May 6, 2010, may be used for Model 767-400ER series airplanes. For Model 767-200, -300, and -300F series airplanes: If the fitting has the tool runout, and no cracking or fracture is found during the inspection, this AD requires no further action for that hinge fitting.

(i) Exceptions to Service Bulletin Procedures

For this AD, the following exceptions apply:

(1) Where the terminating action in Part 3 of Boeing Service Bulletin 767-57A0076, Revision 1, dated March 29, 2001; and Boeing Alert Service Bulletin 767-57A0079, dated June 20, 2002, and Revision 1, dated May 6, 2010; is specified as corrective action: This AD requires that the terminating action, if required, be accomplished before further flight.

(2) Boeing Service Bulletin 767-57A0076, Revision 1, dated March 29, 2001, specifies to contact Boeing before the terminating action is done as corrective action for any cracking or fracture found on a Model 767-200, -300, or -300F series airplane with the tool runout. This AD requires that any such crack or fracture on those airplanes be repaired in accordance with Part 3 of Boeing Service Bulletin 767-57A0076, Revision 1, dated March 29, 2001. This AD does not require a report.

(j) Optional Terminating Action

Unless required to do so by paragraph (h) of this AD: Operators may choose to accomplish the terminating action (including replacement of the fittings with new fittings, and reinstallation of existing upper skin access panels and fairing midsections on the trailing edge of the main flap) in accordance with Part 3 of the Work Instructions of Boeing Service Bulletin 767-57A0076, Revision 1, dated March 29, 2001; or Boeing Alert Service Bulletin 767-57A0079, dated June 20, 2002, or Boeing Alert Service Bulletin 767-57A0079, Revision 1, dated May 6, 2010; as applicable. After the effective date of this AD, only Boeing Alert Service Bulletin 767-57A0079, Revision 1, dated May 6, 2010, may be used for Model 767-400ER series airplanes. Accomplishment of the terminating action terminates the repetitive inspection requirements of paragraph (h) of this AD.

(k) Part Installation

As of July 29, 2003, no person may install on any airplane identified in Boeing Service Bulletin 767-57A0076, dated October 26, 2000; and Boeing Alert Service Bulletin 767-57A0079, dated June 20, 2002; a hinge fitting assembly that has any part number listed in table 1 of this AD, unless the applicable requirements of this AD have been accomplished for that fitting. As of the effective date of this AD, no person may install on any airplane identified in paragraph (c) of this AD, a hinge fitting assembly that has any part number listed in table 1 of this AD, unless the applicable requirements of this AD have been accomplished for that fitting.

Table 1—Hinge Fitting Assembly Part Numbers
113T2271-13 | 113T2271-14
113T2271-23 | 113T2271-24
113T2271-29 | 113T2271-30
113T2271-33 | 113T2271-34
113T2271-401 | 113T2271-402

(l) Credit for Actions Accomplished in Accordance With Previous Service Information

Actions done before July 29, 2003, in accordance with Boeing Alert Service Bulletin 767-57A0076, dated October 26, 2000, are acceptable for compliance with the corresponding requirements of paragraphs (g), (h), (j), and (k) of this AD.

New Requirements of This AD

(m) Initial Inspection

For Model 767-400ER airplanes identified in Boeing Alert Service Bulletin 767-57A0079, Revision 1, dated May 6, 2010, on which the inspection required in paragraph (g) of this AD has not been done as of the effective date of this AD: Before the accumulation of 6,000 total flight cycles, or within 750 flight cycles after the effective date of this AD, whichever occurs later, perform either a detailed inspection or a detailed inspection plus an eddy current inspection to detect cracks or fractures of the outboard hinge fitting assemblies on the trailing edge of the inboard main flap, in accordance with the Accomplishment Instructions of Boeing Alert Service Bulletin 767-57A0079, Revision 1, dated May 6, 2010. Accomplishment of this inspection terminates the inspection requirement of paragraph (g)(2) of this AD.

(n) Repetitive Inspections

For Model 767-400ER airplanes: Repeat either inspection specified in paragraph (h) or (m) of this AD, as applicable, at the time specified in paragraph (n)(1) or (n)(2) of this AD, as applicable, in accordance with the Accomplishment Instructions of Boeing Alert Service Bulletin 767-57A0079, Revision 1, dated May 6, 2010.

(1) If the most recent inspection was a detailed inspection, repeat at intervals not to exceed 300 flight cycles after doing the detailed inspection.

(2) If the most recent inspections were a detailed inspection and an eddy current inspection, repeat at intervals not to exceed 750 flight cycles after doing the detailed inspection and eddy current inspection.

(o) Optional Terminating Action

For Model 767-400ER airplanes: Replacing the fittings with new fittings, in accordance with Part 3 of the Work Instructions of Boeing Alert Service Bulletin 767-57A0079, dated June 20, 2002; or Revision 1, dated May 6, 2010; terminates the repetitive inspections required by paragraphs (h) and (n) of this AD.

(p) Credit for Actions Accomplished in Accordance with Previous Service Information

Actions done before the effective date of this AD in accordance with Part 3 of the Work Instructions of Boeing Alert Service Bulletin 767-57A0079, dated June 20, 2002, are acceptable for compliance with the requirements of paragraph (h) and (n) of this AD.

(q) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(r) Related Information

(1) For more information about this AD, contact Berhane Alazar, Aerospace Engineer, Airframe Branch, ANM-120S, FAA, Seattle Aircraft Certification Office, 1601 Lind Avenue SW., Renton, Washington 98057-3356; phone: 425-917-6577; fax: 425-917-6590; email: berhane.alazar@faa.gov.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Issued in Renton, Washington, on January 27, 2012.
Kalene C. Yanamura,
Acting Manager, Transport Airplane Directorate, Aircraft Certification Service.

[FR Doc. 2012-2976 Filed 2-8-12; 8:45 am]

BILLING CODE 4910-13-P